DEPARTMENT OF TRANSPORTATION

Surface Transportation Board

[STB Finance Docket No. 34420]

CSX Transportation, Inc.—Trackage Rights Exemption—R.J. Corman Railroad Company/Memphis Line; R.J. Corman Railroad Company/Central Kentucky Lines, LLC—Trackage Rights Exemption—CSX Transportation, Inc.

Pursuant to a written master trackage rights agreement dated October 15, 2003, R.J. Corman Railroad Company/Memphis Line (RJCM) has agreed to grant overhead trackage rights to CSX Transportation, Inc. (CSXT) between CSXT milepost F-118.74/RJCM milepost LF-118.74 at Memphis Junction, KY, and RJCM milepost D-152 at Lewisburg, KY, a distance of approximately 33 miles, and CSXT has agreed to grant overhead trackage rights to R.J. Corman Railroad Company/Central Kentucky Lines, LLC (RJCC) between CSXT milepost VB113.81 at Winchester, KY, connecting to CSXT's CC Subdivision at milepost KC96.1 and CSXT milepost KC131.0 at Berea, KY, a distance of approximately 35 miles.

The parties state that consummation of the transaction was scheduled to occur on November 1, 2003.

The purpose of the trackage rights is to provide run through unit train service between Berea and Louisville, KY, and between Louisville and Lewisburg, KY.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the exemption.

An original and 10 copies of all pleadings, referring to STB Finance Docket No. 34420, must be filed with the Surface Transportation Board, 1925 K Street, NW., Washington, DC 20423-0001. In addition, a copy of each pleading must be served on Michael W. Blaszak, 211 South Leitch Ave., La Grange, IL 60525-2162, and Ronald A. Lane, Fletcher & Sippel LLC, 29 N. Wacker Drive, Suite 920, Chicago, IL 60606.

Board decisions and notices are available on our Web site at http://“www.stb.dot.gov.”

Decided: November 3, 2003.
By the Board, David M. Konschnik, Director, Office of Proceedings.
Vernon A. Williams,
Secretary.

[FR Doc. 03-28199 Filed 11-10-03; 8:45 am]

BILLING CODE 4915-00-P